DEPARTMENT OF LABOR

Employment and Training Administration

[TA-W-54,029]

Symtech, Inc., Spartanburg, South Carolina; Notice of Termination of Investigation

Pursuant to section 221 of the Trade Act of 1974, as amended, an investigation was initiated on January 15, 2004 in response to a petition filed on behalf of workers at Symtech, Spartanburg, South Carolina.

This petition was initiated in error; it is a duplicate of the petition filed on behalf of workers of the subject firm under petition number TA-W-53,461. Consequently, further investigation in this case would serve no purpose, and the investigation has been terminated.

Attached to the duplicate petition was a letter from one of the petitioner's seeking further investigation of the denial of petition TA-W-53,461. The Department will review the information supplied by the petitioner to determine whether further investigation of TA-W-53,461 is warranted.

Signed at Washington, DC this 21st day of January, 2004.
Linda G. Poole,
Certifying Officer, Division of Trade Adjustment Assistance.

[FR Doc. 04-3320 Filed 2-13-04; 8:45 am]

BILLING CODE 4510-30-P